DEPARTMENT OF THE INTERIOR

National Park Service

Boundary Revision; Rocky Mountain National Park

AGENCY: National Park Service, Department of the Interior.

ACTION: Notice of boundary revision, Rocky Mountain National Park.

SUMMARY: This notice announces a revision of the boundary of Rocky Mountain National Park to include two parcels donated by Rocky Mountain National Park Associates, Inc. The National Park Service has determined that this boundary revision is necessary for the proper preservation and protection of the National Park.

DATES: The effective date of this Order is the April 18, 2000.

FOR FURTHER INFORMATION CONTACT: Superintendent, Rocky Mountain National Park, at the above address or by telephone at 970-586-1399.

SUPPLEMENTARY INFORMATION: 16 U.S.C. 4601-9(c)(1) authorizes the Secretary of the Interior to make this boundary revision. This boundary adjustment will add two parcels of land comprised of 28.33 acres and 18.19 acres to Rocky Mountain National Park in Larimer County, Colorado.

The above parcels are depicted as tract numbers 06-142 and 07-152 on land acquisition map, segments 6 and 7, having drawing number 121/92,002, sheet 7 and 8 of 11. The map is on file at the National Park Service, Intermountain Land Resources Program Center, and at the Office of the Superintendent, Rocky Mountain National Park.

Dated: February 2, 2000.
Karen P. Wade,
Director, Intermountain Region.

[FR Doc. 00-9586 Filed 4-17-00; 8:45 am]

BILLING CODE 4310-70-P